DEPARTMENT OF DEFENSE

Office of the Secretary

Federal Advisory Committee; United States Strategic Command Strategic Advisory Group; Charter Renewal

AGENCY: Department of Defense (DoD).

ACTION: Renewal of Federal advisory committee.

SUMMARY: Under the provisions of the Federal Advisory Committee Act of 1972 (5 U.S.C. Appendix), the Government in the Sunshine Act of 1976 (5 U.S.C. 552b), and 41 CFR 102-3.50, the Department of Defense gives notice that it is renewing the charter for the United States Strategic Command Strategic Advisory Group (hereafter referred to as the Group).

FOR FURTHER INFORMATION CONTACT: Jim Freeman, Deputy Advisory Committee Management Officer for the Department of Defense, 703-601-6128.

SUPPLEMENTARY INFORMATION: The Group is a discretionary Federal advisory committee and shall provide the Chairman of the Joint Chiefs of Staff and the Commander of the U.S. Strategic Command independent advice and recommendations on scientific, technical, intelligence, and policy-related matters of interest to the Joint Chiefs of Staff and the U.S. Strategic Command concerning the development and implementation of the Nation's strategic war plans. The Group shall provide independent advice and recommendations regarding enhancements in mission area responsibilities. The Group shall further provide independent advice and recommendations on other matters related to the Nation's strategic forces, as requested by the Chairman of the Joint Chiefs of Staff or the Commander of the U.S. Strategic Command.

The Chairman of the Joint Chiefs of Staff may act upon the Group's advice and recommendations.

The Group shall be composed of not more than 50 members who are eminent authorities in the fields of strategic policy formulation, nuclear weapon design and national command, control, communications, intelligence and information operations, or other important aspects of the Nation's strategic forces.

Group members shall be appointed by the Secretary of Defense, and their membership shall be renewed by the Secretary of Defense on an annual basis.

Group members appointed by the Secretary of Defense, who are not full-time or permanent part-time federal officers or employees, shall be appointed under the authority of 5 U.S.C. 3109, and serve as special government employees. In addition, all Group members, with the exception of travel and per diem for official travel, shall serve without compensation.

The Commander of the U.S. Strategic Command shall select the Group's chairperson from the total membership. In addition, the Chairman of the Joint Chiefs of Staff or designated representative may invite other distinguished Government officers to serve as non-voting observers of the Group, and the Chairman of the Joint Chiefs of Staff may appoint consultants, with special expertise to assist the Group on an ad hoc basis. These consultants, if not full-time or part time government employees, shall be appointed under the authority of 5 U.S.C. 3109, shall serve as special government employees, shall be appointed on an intermittent basis to work specific Group-related efforts, shall have no voting rights whatsoever on the Group or any of its subcommittees, and shall not count toward the Group's total membership.

With DoD approval, the Group is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Group, and shall report all their recommendations and advice to the Group for full deliberation and discussion. Subcommittees or workgroups have no authority to make decisions on behalf of the chartered Group; nor can they report directly to the Department of Defense or any Federal officers or employees who are not Group members.

Subcommittee members, who are not Group members, shall be appointed in the same manner as the Group members.

The Group shall meet at the call of the Group's Designated Federal Officer, in consultation with the Chairperson. The estimated number of Group meetings is two per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the United States Strategic Command Strategic Advisory Group's membership about the Group's mission and functions. Written statements may be submitted at any time or in response to the stated agenda of planned meeting of United States Strategic Command Strategic Advisory Group.

All written statements shall be submitted to the Designated Federal Officer for the United States Strategic Command Strategic Advisory Group, and this individual will ensure that the written statements are provided to the membership for their consideration. Contact information for the United States Strategic Command Strategic Advisory Group Designated Federal Officer can be obtained from the GSA's FACA Database— https://www.fido.gov/facadatabase/public.asp.

The Designated Federal Officer, pursuant to 41 CFR 102-3.150, will announce planned meetings of the United States Strategic Command Strategic Advisory Group. The Designated Federal Officer, at that time, may provide additional guidance on the submission of written statements that are in response to the stated agenda for the planned meeting in question.

Dated: April 26, 2010.
Mitchell S. Bryman,
Alternate OSD Federal Register Liaison Officer, Department of Defense.

[FR Doc. 2010-10000 Filed 4-28-10; 8:45 am]

BILLING CODE 5001-06-P